DEPARTMENT OF HEALTH AND HUMAN SERVICES

Announcement of Availability of Funds for Cooperative Agreement to the Fundación México-Estados Unidos para la Ciencia, A.C. (FUMEC) (United States-Mexico Foundation for Science) to Support Mexican Outreach Offices

AGENCY: Office of Global Health Affairs, Office of the Secretary, HHS.

Announcement Type: Cooperative Agreement—Fiscal Year (FY) 2006 Initial Announcement. Single Source.

Catalog of Federal Domestic Assistance: 93.018.

DATES: Application Availability: June 12, 2006. Applications are due by 5 p.m. Eastern Time on July 12, 2006.

SUMMARY: The Office of Global Health Affairs (OGHA) announces up to $600,000 in FY 2006 funds is available for a cooperative agreement to the Fundación México-Estados Unidos para la Ciencia, A. C. (FUMEC) (United States-Mexico Foundation for Science) to support the implementation, management, and administration of U.S.-Mexico Border Health Commission (USMBHC) programs and activities at the Mexican Outreach Offices. This initiative will support the development, administration, and evaluation of programs in specified health areas, including training for health personnel, development, and dissemination of educational materials and workshops, research, community outreach, health promotion, and improvement of information technology to enhance program support. HHS/OGHA will approve the budget period to be one year and the project period for up to a five-year period for a total of $600,000 (including indirect costs). Funding for the cooperative agreement is contingent upon the availability of funds.

I. Funding Opportunity Description

Under the authority of Section 4 of the U.S.-Mexico Border Health Commission Act (the Act), Public law 103-400, the Office of Global Health Affairs (OGHA) announces the intent to allocate Fiscal Year (FY) 2006 funds for a cooperative agreement to the Fundación México-Estados Unidos para la Ciencia, A. C. (FUMEC) (United States—Mexico Foundation for Science), who will work through the Mexican Outreach Offices of the U.S.-Mexico Border Health Commission, to strengthen the binational public health projects and programs along the U.S.-Mexico border. The cooperative agreement will address activities related to the following topic areas: (1) Substance Abuse, (2) HIV/AIDS, (3) Chronic Diseases, (4) Vete Sano Regresa Sano (Go Healthy, Come Back Healthy), (5) Injury Prevention, (6) Diabetes, (7) Family Planning, (8) Domestic Violence, (9) Cancer, (10) Teen Pregnancy Prevention, (11) Oral Health, (12) Rabies, (13) Communicable Diseases, (14) Tuberculosis, and (15) Epidemiological Monitoring.

This assistance is geared to support current, on-going, and proposed public health initiatives in this border region that support the goals and objectives of the U.S.-Mexico Border Health Commission to strengthen access to health care, disease prevention, and public health along the Mexican side of the U.S-Mexico border.

Background: More than 800,000 people crisscross legally everyday, not counting the thousands who find illegal ways to enter the United States. The economic burden on the United States and Mexico is staggering. Much of the border is poor and health resources are scarce. This rapid population growth is putting further pressure on an already inadequate medical care infrastructure, which further decreases access to health care. The border is impoverished and has a double burden of disease to bear. Like many emerging nations, it struggles with serious chronic diseases such as respiratory and gastrointestinal ailments. The large and diverse migrant population increases the incidence of communicable diseases such as HIV/AIDS and tuberculosis, as well as chronic illnesses such as diabetes, certain cancers, and hypertension. In addition, the problems and concerns affecting the border region have broad repercussions for both nations. Travelers, migrants and immigrants, who are crossing the border every day, are taking their health problems with them to other parts of the United States and Mexico.

Although both nations cooperate in specific health areas, until the establishment of a high-level binational commission, the border region lacked a sustainable process for addressing and improving the health of its population.

The U.S.-Mexico Border Health Commission (USMBHC), in collaboration with the U.S. Department of Health and Human Services, works toward creating awareness about the U.S.-Mexico border, its people, and its environment. It educates others about the unique challenges at the border through outreach efforts, data collection and analysis, and joint collaborative efforts with public and private partners in the border-health community. The USMBHC serves as a rallying point for shared concerns about the U.S.-Mexico border, and as a catalyst for action to develop plans directed toward solving specific health-related problems. Outreach offices of the USMBHC work with the Mexican border states of Baja California, Norte, Sonora, Chihuahua, Coahuila, Nuevo León, and Tamauilipas to address public-health concerns and needs affecting the border region. These offices will work with the Servicios de Salud in each State to promote and strengthen border-health initiatives and activities.

An agreement between Mexico and the United States created FUMEC in 1992 as a bi-national, non-governmental body to promote and support scientific and technological collaboration between both countries.

Purpose: The overall objective of this cooperative agreement is to support and coordinate the USMBHC's objectives and the development of the outreach health activities along the Mexican side of the U.S.-Mexico border. Awardee activities for this program will focus in the following topic areas:

• Substance Abuse;

• HIV/AIDS;

• Chronic Diseases;

• Vete Sano Regresa Sano (Go Healthy, Come Back Healthy);

• Injury Prevention;

• Diabetes;

• Family Planning;

• Domestic Violence;

• Cancer;

• Teen Pregnancy Prevention;

• Oral Health;

• Rabies;

• Communicable Diseases;

• Tuberculosis; and

• Epidemiological Monitoring.

Funding will support the development, administration, and evaluation of programs in the above-stated topics and health areas, including training for health personnel, development and dissemination of educational materials and workshops, research/studies, community outreach, and health promotion, and information technology to enhance program support. Additionally, funding will support the operating expenses related to these programs, including personnel, travel, office supplies, and equipment expenses.

The overall objectives of the program are to:

• Strengthen the binational public health projects and programs along the U.S.-Mexico border.

• Train and update health professionals in the U.S.-México border.

Progress in the attainment of this objective will be identified through one of the following performance goals:

• Increased access to care and improve quality of care;

• Improved disease prevention and health education;

• Improved workforce development and retention; and

• Improved public health infrastructure.

Measurable outcomes include:

• Number of health care workers, medical and emergency personnel, and other pertinent parties trained on various border-oriented health topics and risk areas;

• Amount of educational materials designed, produced, and distributed to increase community awareness of border health concerns;

• Number of health promotion and education activities/seminars/workshops developed and implemented;

• Amount of appropriate equipment, medicine, and materials purchased and distributed to meet the border health care needs identified by the States;

• Degree to which epidemiology monitoring systems are established and/or strengthened; and,

• Degree to which clinic and laboratory capabilities for border health needs are established and/or strengthened.

Activities: Awardee activities for this program will focus on the flowing areas:

(1) Outreach and health-promotion activities to establish or strengthen links between public health and border activities;

(2) Evaluation and assessments of health services, health research, health care technologies, and delivery systems;

(3) Health data analysis and surveillance;

(4) Programmatic support to the members and staff for the USMBHC; and

(5) Support and development of Healthy Border/Healthy Gente projects and activities.

II. Award Information

This program, during which HHS/OGHA anticipates substantial scientific and/or programmatic involvement, will use the cooperative agreement as the administrative and funding instrument. Under the cooperative agreement, HHS/OGHA will support and/or stimulate awardee activities by working with them in a non-directive partnership role. HHS/OGHA expects the awardee to work directly with, and in support of, the U.S.-Mexico Border Health Commission and its stated goals and initiatives, as well as the Mexican Outreach Offices.

Approximately $600,000 in FY 2006 funds is available to support the agreement. The anticipated start date is June 12, 2006. There will only be one single award made from this announcement. The project period for this agreement is five (5) years with the budget period at twelve (12) months.

Although OGHA provides for this program in its financial plans, the award pursuant to this RFA is contingent upon the availability of funds for this purpose.

III. Eligibility Information

1. Eligible Applicant

This is a single-eligibility cooperative agreement offered to FUMEC, which will work with the Mexican Outreach Offices (OROs) of Baja California, Norte, Sonora, Chihuahua, Coahuila, Nuevo León, and Tamauilipas to accomplish the goals and objectives of the USMBHC.

FUMEC has extensive past experience working with public-health issues for both the United States and Mexico, and supporting their binational goals, objectives, and initiatives. The Mexican OROs, through whom FUMEC will coordinate activities and programs, have extensive past experience working with the USMHBC and supporting its binational goals, objectives, and initiatives. The Mexican OROs also have existing working relationships and on-going initiatives with the United States through the U.S. Outreach Offices along the border. Continuity and consistency in this binational effort within this region is essential to the productivity and success of public-health efforts in this region.

2. Cost Sharing or Matching

Cost sharing, matching funds, and cost participation are not requirements of this agreement.

IV. Application and Submission Information

1. Address To Request Application Package

Application kits may be requested by calling (240) 453-8822 or writing to: Office of Grants Management, Office of Public Health Science (OPHS), 1101 Wootton Parkway, Suite 550, Rockville, MD, 20852. Applicant must use form OPHS-1. Applicant may fax a written request to the OPHS Office of Grants Management to obtain a hard copy of the application kit at (240) 453-8823.

2. Content and Form of Application Submission

Applicant must submit a Project Abstract on 3.5-inch floppy disk with the application. The abstract must be typed, single-spaced, and cannot exceed two pages. Reviewers and staff will refer frequently to the information contained in the abstract; therefore it should contain substantive information about the proposed projects in summary form. A list of suggested keywords and a format sheet for your use in preparing the abstract will be included in the application packet.

The grant application must include a Project Narrative. In addition to the instructions provided in OPHS-1 (Rev 8/2004) for project narrative, the specific guidelines for the project narrative are in the program guidelines. Format requirements are the same as for the Project Abstract Section; margins should be 1 inch at the top and 1 inch at the bottom and both sides; and typeset must be no smaller than 12 characters per inch and not reduced. Biographical sketches should be either typed on the appropriate form or plain paper, and should not exceed two pages, with publications listed limited to those directly relevant to this project.

Application Format Requirements

If applying on paper, the entire application may not exceed 80 pages in length, including the abstract, project and budget narratives, face page, attachments, any appendices, and letters of commitment and support. Applicant must number pages consecutively.

Applications submitted electronically that exceed 80 pages when printed will be deemed non-compliant. HHS/OGHA will return all non-compliant applications to the applicant without further consideration.

a. Number of Copies: Please submit one (1) original and two (2) unbound copies of the application. Please do not bind or staple the application. Application must be single sided.

b. Font: Please use an easily readable serif typeface, such as Times Roman, Courier, or CG Times. Submit the text and table portions of the application in not less than 12 point and 1.0 line spacing. Applications not adhering to 12-point font requirements may be returned.

c. Paper Size and Margins: For scanning purposes, please submit the application on 8 ½″ x 11″ white paper. Margins must be at least one (1) inch at the top, bottom, left, and right of the paper. Please left-align text.

d. Numbering: Please number the pages of the application sequentially from page 1 (face page) to the end of the application, including charts, figures, tables, and appendices.

e. Names Please include the name of the applicant on each page.

f. Section Headings: Please put all section headings flush left in bold type.

Application Format

Applications for funding must consist of the following documents in the following order:

i. Application Face Page

Public Health Service (PHS) Application Form OPHS-1, provided with the application package. Prepare this page according to instructions provided in the form itself.

DUNS Number

All applicant organizations are required to have a Data Universal Numbering System (DUNS) number in order to apply for a grant from the Federal Government. The DUNS number is a unique nine-character identification number provided by the commercial company, Dun and Bradstreet. There is no charge to obtain a DUNS number. Information about obtaining a DUNS number can be found at https://www.dnb.com/product/eupdate/requestOptions.html or call 1-866-705-5711. Please include the DUNS number next to the OMB Approval Number on the application face page.

Additionally, the applicant organization will be required to register with the Federal Government's Central Contractor Registry (CCR) in order to do electronic business with the Federal Government. Find information about registering with the CCR at http://www.hrsa.gov/grants/ccr.htm.

Finally, applicant applying electronically through Grants.gov are required to register with the Credential Provider for Grants.gov. Information about this requirement is available at http://www.grants.gov/CredentialProvider.

Applicant applying electronically through the OPHS E-Grants System must register with the provider. Information about this requirement is available at https://egrants.osophs.dhhs.gov.

ii. Program Narrative

This section provides a comprehensive framework and description of all aspects of the proposed program. It should be succinct, self-explanatory, and well organized so reviewers can understand the proposed project.

Use the following section headers for the Narrative:

• Executive Summary

This section should briefly describe the proposed project and supporting initiatives, as well as summarize goals the program intends to achieve through the project initiatives.

• Work Plan

Describe the current and proposed activities or steps you will use to achieve the stated goals and objectives. Describe expected outcomes resulting from activities as well as any evaluation mechanisms you will use to measure the success of the initiatives.

• Mechanism for Administration

Describe how you will administer resources and funds regarding the proposed projects.

• In-Kind Support/Resources

Describe any in-kind support from other sources, if any, you will use to support the proposed initiatives and activities.

iii. Appendices

Please provide the additional relevant information (including tables, charts, and other relevant documents) to complete the content of the application. Please note that these are supplementary in nature, and will not be a continuation of the project narrative. Be sure to clearly label each appendix.

3. Submission Dates and Times

The Office of Public Health and Science (OPHS) provides multiple mechanisms for the submission of the application, as described in the following sections. Applicant will receive notification via mail from the OPHS Office of Grants Management confirming the receipt of applications submitted using any of these mechanisms. The OPHS Office of Grants Management will not accept applications after the deadlines described below. The OPHS Office of Grants Management will return the application if it does not conform to the requirements of the grant announcement to the applicant without review.

Applicant may only submit the application electronically, via the electronic submission mechanisms specified below. The OPHS Office of Grants Management will not accept for review applications submitted via any other means of electronic communication, including facsimile or electronic mail. While the OPHS Office of Grants Management will accept applications in hard copy, we encourage the use of the electronic application submission capabilities provided by the OPHS eGrants system or the Grants.gov Website Portal.

Applicant must submit the electronic grant application no later than 5 p.m. Eastern Time on the deadline date specified in the DATES section of the announcement using one of the electronic submission mechanisms specified below. The OPHS Office of Grants Management must receive all required hardcopy original signatures and mail-in items no later than 5 p.m. Eastern Time on the next business day after the deadline date specified in the DATES section of the announcement.

The OPHS Office of Grants Management will not consider the application valid until it receives all electronic application components, hardcopy original signatures, and mail-in items according to the deadlines specified above. The OPHS Office of Grants Management will not consider application submissions that do not adhere to the due date requirements late, and they will be deemed ineligible.

The OPHS Office of Grants Management encourages applicant to initiate electronic applications early in the application development process, and to submit early on the due date or before. This will aid in addressing any problems with submissions prior to the application deadline.

Electronic Submissions via the Grants.gov Website Portal

The Grants.gov Website Portal provides organizations with the ability to submit applications for OPHS grant opportunities. Organizations must successfully complete the necessary registration processes in order to submit an application. Information about this system is available on the Grants.gov Website, http://www.grants.gov.

In addition to electronically submitted materials, applicant may be required to submit hardcopy signatures for certain program related forms, or original materials as required by the announcement. It is imperative that the applicant reviews the grant announcement as well as the application guidance provided within the Grants.gov application package, to determine such requirements. The applicant must submit any required hardcopy materials, or documents that require a signature, separately via mail to the OPHS Office of Grants Management, and, if required, must contain the original signature of an individual authorized to act for the applicant agency and the obligations imposed by the terms and conditions of the grant award.

Electronic applications submitted via the Grants.gov Website Portal must contain all completed online forms required by the application kit, the Program Narrative, Budget Narrative and any appendices or exhibits. The OPHS Office of Grants Management must receive all required mail-in items by the due date requirements specified above. Mail-In items may only include publications, resumes, or organizational documentation.

When the applicant completes a successful electronic application submission via the Grants.gov Website Portal, Grants.gov will provide the applicant with a confirmation page indicating the date and time (Eastern Time) of the electronic application submission, as well as the Grants.gov Receipt Number. It is critical that the applicant prints and retains this confirmation for their records, as well as a copy of the entire application package.

Grants.gov will validate all applications submitted via the Grants.gov Website Portal. The Grants.gov Website Portal will transfer any applications deemed “Invalid” to the OPHS eGrants system, and OPHS has no responsibility for any application that the Grants.gov Website Portal does not validate and transfer to OPHS. Grants.gov will notify the applicant regarding the application validation status. Once the Grants.gov Website Portal successfully validates the application, applicant should immediately mail all required hard copy materials to the OPHS Office of Grants Management due by the deadlines specified above. The applicant must clearly identify the Organization name and Grants.gov Application Receipt Number on all hard copy materials.

Once Grants.gov validates the application, Grants.gov will electronically transfer it to the OPHS eGrants system for processing. Upon receipt of both the electronic application from the Grants.gov Website Portal, and the required mail-in items, applicant will receive notification via mail from the OPHS Office of Grants Management, confirming their receipt of the application submitted using the Grants.gov Website Portal.

Applicant should contact Grants.gov with any questions or concerns regarding the electronic application process conducted through the Grants.gov Website Portal.

Electronic Submissions via the OPHS eGrants System

The OPHS electronic grants management system, eGrants, provides for electronic submission of applications. Information about this system is available on the OPHS eGrants Website, https://egrants.osophs.dhhs.gov, or from the OPHS Office of Grants Management, which the applicant may contact by phone at (240) 453-8822.

When submitting applications via the OPHS eGrants system, applicant must submit a hard copy of the application face page (Standard Form 424) with the original signature of an individual authorized to act for the applicant agency and assume the obligations imposed by the terms and conditions of the grant award. If required, applicant will also need to submit a hard copy of the Standard Form LLL and/or certain Program related forms (e.g., Program Certifications) with the original signature of an individual authorized to act for the applicant agency.

Electronic applications submitted via the OPHS eGrants system must contain all completed online forms required by the application kit, the Program Narrative, Budget Narrative, and any appendices or exhibits. The applicant may identify specific mail-in items to send to the Office of Grants Management separate from the electronic submission; however, the applicant must enter these mail-in items on the eGrants Application Checklist at the time of electronic submission, and the Office of Grants Management must receive them by the due date requirements specified above. Mail-In items may only include publications, resumes, or organizational documentation.

Upon completion of a successful electronic application submission, the OPHS eGrants system will provide the applicant with a confirmation page, indicating the date and time (Eastern Time) of the electronic application submission. This confirmation page will also provide a listing of all items that constitute the final application submission, including all electronic application components, required hardcopy original signatures, and mail-in items, as well as the mailing address of the OPHS Office of Grants Management, where applicant must submit all required hardcopy materials.

As the OPHS Office of Grants Management receives items, they will update electronic application status to reflect the receipt of mail-in items. The applicant should monitor the status of their application in the OPHS eGrants system to ensure OPHS receives all signatures and mail-in items.

Mailed or Hand-Delivered Hardcopy Applications

Applicant who submit applications in hardcopy (via mail or hand-delivered) must submit an original and two copies of the application. An individual authorized to act for the applicant agency or organization, and to assume for the organization the obligations imposed by the terms and conditions of the grant award must sign the original application.

The OPHS Office of Grants Management will consider as meeting the deadline mailed or hand-delivered applications if the Office receives them on or before 5 p.m. Eastern Time on the deadline date specified in the DATES section of the announcement. The application deadline specified in this announcement supersedes the instructions in the OPHS-1. The OPHS Office of Grants Management will return applications that do not meet the deadline to the applicant unread.

4. Intergovernmental Review

This program is subject to the Public Health Systems Reporting Requirements. Under these requirements, a community-based, non-governmental applicant must prepare and submit a Public Health System Impact Statement (PHSIS). Applicant shall submit a copy of the application face page (SF-424) and a one-page summary of the project, called the Public Health System Impact Statement. The PHSIS provides information to State and local health officials to keep them informed about proposed health services grant applications submitted by community-based, non-governmental organizations within their jurisdictions.

Community-based, non-governmental applicant must submit, no later than the Federal due date for receipt of the application, the following information to the head of the appropriate State and local health agencies in the area(s) to be affected: (a) A copy of the face page of the application (SF 424), (b) a summary of the project (PHSIS), not to exceed one page, which provides: (1) A description of the population to be served, (2) a summary of the services to be provided, and (3) a description of the coordination planned with the appropriate State or local health agencies. Applicant must include copies of the letters forwarding the PHSIS to these authorities in the application materials submitted to the OGHA/HHS.

This program is also subject to the requirements of Executive Order 12372, which allows States the option of setting up a system for reviewing applications from within the State for assistance under certain Federal programs. The application kit available under this notice will contain a listing of States that have set up a review system, and will include a State Single Point of Contact (SPOC) in the State for review. Applicant (other than federally recognized Indian tribes) should contact their SPOCs as early as possible to alert them to the prospective applications, and receive any necessary instructions on the State process. For proposed projects serving more than one State, the applicant should contact the SPOC in each affected State. A complete list of SPOCs may be found at the following Website: http://www.whitehouse.gov/omb/grants/spoc.html. The due date for State process recommendations is 60 days after the application deadline. The OGHA/HHS does not guarantee it will accommodate or explain its responses to State process recommendations received after that date. (See “Intergovernmental Review of Federal Programs,” Executive Order 12372, and 45 CFR part 100 for a description of the review process and requirements.)

5. Funding Restrictions

Awardees may not use funds for construction, building alterations, equipment purchase, medical treatment, renovations, or to purchase food. Allowability, allocability, reasonableness, and necessity of direct and indirect costs that may be charged are in the following documents: OMB-21 (Institutes of Higher Education); OMB Circular A-122 (Nonprofit Organizations) and 45 CFR part 74, Appendix E (Hospitals). Copies of these circulars are on the Internet at: http://www.whitehouse.gov/omb.

V. Application Review Information

1. Criteria

OGHA staff will screen applications for completeness and for responsiveness to the program guidance. Applicant should pay strict attention addressing these criteria, as they are the basis upon which OGHA staff will judge applications. OGHA will return those applications judged to be non-responsive or incomplete to the applicant without review.

VI. Award Administration Information

1. Award Notice

HHS/OGHA does not release information about individual applications during the review process. The official document notifying the applicant that an application has been approved and funded is the Notice of Award, which specifies to the awardee the amount of money awarded, the purpose of the agreement, the terms and conditions of the agreement, and the amount of funding, if any, to be contributed by the awardee to the project costs.

2. Administrative and National Policy Requirements

The regulations set out at 45 CFR parts 74 and 92 are the Department of Health and Human Services (HHS) rules and requirements that govern the administration of grants. Part 74 is applicable to all recipients except those covered by part 92, which governs awards to State and local governments. Applicant funded under this announcement must be aware of and comply with these regulations. Applicant may download the CFR volume that includes parts 74 and 92 from: http://www.access.gpo.gov/nara/cfr/waisidx_03/45cfrv1_03.html.

The HHS Appropriations Act requires that when issuing statements, press releases, requests for proposals, bid solicitation, and other documents describing projects or programs funded in whole or in part with Federal money, grantees shall clearly state the percentage and dollar amount of the total cost of the program or project which will be financed with Federal money, and the percentage and dollar amount of the total costs of the project or program that will be financed by non-governmental sources.

2. Reporting

All projects are required to have an evaluation plan, consistent with the scope of the proposed project and funding level that conforms to the project's stated goals and objectives. The evaluation plan should include both a process evaluation to track the implementation of project activities and an outcome evaluation to measure changes in knowledge and skills the successful applicant can attribute to the project. The successful applicant may use project funds to support evaluation activities.

In addition to conducting their own evaluation of projects, successful applicant must be prepared to participate in an external evaluation, to be supported by HHS/OGHA and conducted by an independent entity, to assess efficiency and effectiveness for the project funded under this announcement.

Within 30 days following the end of each of quarter, the successful applicant must submit a performance report no more than ten pages in length to HHS/OGHA. HHS/OGHA will provide a sample monthly performance report at the time of notification of award. At a minimum, monthly performance reports should include:

• Concise summary of the most significant achievements and problems encountered during the reporting period, e.g. number of training courses held and number of trainees.

• A comparison of work progress with objectives established for the quarter using the grantee's implementation schedule, and where such objectives were not met, a statement of why they were not met.

• Specific action(s) that the grantee would like the OGHA/HHS to undertake to alleviate a problem.

• Other pertinent information that will permit monitoring and overview of project operations.

• A quarterly financial report describing the current financial status of the funds used under this award. The awardee and OGHA will agree at the time of award on the format of this portion of the report.

Within 90 days of the end of the project period, the successful applicant must submit a final report containing information and data of interest to the Department of Health and Human Services, Congress, and other countries to HHS/OGHA. OGHA will send the specifics guidance regarding the format and content of the final report and the summary to successful applicant. At minimum, the report should contain:

• A summary of the major activities supported under the agreement and the major accomplishments resulting from activities to improve mortality in partner country.

• An analysis of the project based on the problem(s) described in the application and needs assessments, performed prior to or during the project period, including a description of the specific objectives stated in the grant application and the accomplishments and failures resulting from activities during the grant period.

Successful applicant will submit quarterly performance reports and the final report to: U.S. Department of Health and Human Services, Office of the Secretary, Office of Global Health Affairs, 5600 Fishers Lane, Suite 18-105, Rockville, MD 20857.

A Financial Status Report (FSR) SF-269 is due 90 days after the close of each 12-month budget period and submitted to OPHS-Office of Grants Management.

VII. Agency Contacts

For programmatic requirements, please contact: Jeff Waggoner, Office of Global Health Affairs, HHS, 5600 Fishers Lane, Suite 18-105, Rockville, MD 20857. Telephone: (301) 443-6279.

For administrative requirements, please contact: Eric West, Office of Grants Management, Office of Public Health and Science, HHS, 1101 Wootton Parkway, Suite 550, Rockville, Maryland 20857. Telephone: (240) 453-8822.

VIII. Tips for Writing a Strong Application

Include DUNS Number. You must include a Data Universal Numbering System (DUNS) Number to have your application reviewed. To obtain a DUNS number, access http://www.dunandbradstreet.com or call 1-866-705-5711. Please include the DUNS number next to the Office of Management and Budget (OMB) Approval Number on the application face page.

Keep your audience in mind. Reviewers will use only the information contained in the application to assess the application. Be sure the application and responses to the program requirements and expectations are complete and clearly written. Do not assume reviewers are familiar with the applicant organization. Keep the review criteria in mind when writing the application.

Start preparing the application early. Allow plenty of time to gather required information from various sources.

Follow the instructions in this guidance carefully. Place all information in the order requested in the guidance. If you do not put the information in the requested order, you may receive a lower score.

Be brief, concise, and clear. Make your points understandable. Provide accurate and honest information, including candid accounts of problems and realistic plans to address them. If you omit any required information or data, explain why. Make sure the information provided in each table, chart, attachment, etc., is consistent with the proposal narrative and information in other tables.

Be organized and logical. Many applications receive a low score because the reviewers cannot follow the thought process of the applicant, or because parts of the application do not fit together.

Be careful in the use of appendices. Do not use the appendices for information required in the body of the application. Be sure to cross-reference all tables and attachments located in the appendices to the appropriate text in the application.

Carefully proofread the application. Misspellings and grammatical errors will impede reviewers' understanding of the application. Be sure pages are numbered (including appendices) and page limits are followed. Limit the use of abbreviations and acronyms, and define each one at its first use, and periodically throughout application.

Dated: June 6, 2006.
Mary Lou Valdez,
Deputy Director for Policy, Office of Global Health Affairs.

[FR Doc. E6-9070 Filed 6-9-06; 8:45 am]

BILLING CODE 4150-38-P